DEPARTMENT OF THE TREASURY

Internal Revenue Service

Quarterly Publication of Individuals Who Have Chosen to Expatriate

AGENCY: Internal Revenue Service (IRS), Treasury.

ACTION: Notice.

This notice is provided in accordance with IRC section 6039G of the Health Insurance Portability and Accountability Act (HIPAA) of 1996, as amended. This listing contains the name of each individual losing United States citizenship (within the meaning of section 877(a) or 877A) with respect to whom the Secretary received information during the quarter ending June 30, 2024. For purposes of this listing, long-term residents, as defined in section 877(e)(2), are treated as if they were citizens of the United States who lost citizenship.

Last name | First name | Middle name/initials
AARTS | MEAGAN | SARAH
ABDULLA | MIKAAL | MOHAMMED
ABE | AKIKO
ABENDROTH | SARAH | SNEED
ACASIO | SHAUN | VALDECANAS
ACHESON | DIANA | E
ACKERMAN | WINIFRED | JILL
ADAMS | DENISE | MARGARET
ADAMSKI | SUSAN | KATHERINE
ADEL | ANOUSHIRVAN
AEBI | NINA | RAHEL
AESCHBACH | NATALIE | VONNE
AIELLO | ALISON
AKATSU | HARUKO
AKELAITIS | ERIC | MARTIN
AKMAN | MICHAEL | LOUIS
AL-ADSANI | NABEEL | ALI
ALBANI | SALVATORE
ALBURY | WILLIAM | RANDALL
ALI | FAREESHA | FARAHNAZ NISHA
ALLEN | SUSAN | JANE
ALLEN | GINA | NICKOLE
ALLEN | MICHAEL | JAMES
ALLEN | VANESSA | NALANI
ALLEN | SUSAN
ALLISON | KENNETH | RALPH
ALNAJJAR | NOZMI | MATSUMURA
AL-SUMAIT | ABDULAZIZ
AL-SUWAIDI | DINA
ALTENMUELLER | WALTER | ROLF
ALTMUELLER | STEPHAN | M
ALVES | RODRIGO | D'ALESSANDRO
AMAR | TAMARA | LEAH
AMBEROSE | MALIKA
AMBROZIC | LAURA | KATHLEEN
AMDUR | KARL | EDWIN
AMEMORI | SATOKO
AMEMORI | KENICHI
AMICK | GRACE | MARY ELIZABETH
ANDERSON | BOYD | DAVID
ANDERSON | MELANIE | ELIZABETH
ANDERSON | LAURIE | ELIZABETH
ANDREWS | JULIAN | P
ANDRONOV | ELLEN | LOUISE
ANTROBUS-THORWEIHE | KATE
ARCHACKI | MARCIN | PAWEL
ARFSTEN | NANNING | JOERG
ARMINIO | LEONARD | JOHN
ARNFIELD | ANTHONY | J
ARNFIELD | JOAN | MARGARET
ARNOLD | PETER | BERNARD
ATKINSON | WILLIAM | ILLSEY
AU | KA | HO
AUBIN | KAREN | M
AUINGER | PHILIP | MICHAEL
AZERRAD | ITAI
AZUMA | MEGUMI
BAAGE | CARL | GUSTAF JOAKIM
BABA | MIRNA
BABIN | MARK | JOSEPH
BACSFALVI | VICTOR
BAILEY | NANCY | MILDRED
BAKER | LILY | PATRICIA
BALL | PEGGY | R
BALLE | DIETMAR
BALLHORN | CHRISTINA | ELIZABETH
BAMDAD | DARIUS | STEPHEN
BANGERTER | ADRIAN | ANDREAS
BARBER | CHRISTOPHER | DEREK RICHARD
BARDEN | MIREILLE | ADRIENNE
BARKER | ELIZABETH | DENICE
BARLOW-BUSCH | ROBERT | GEORGE
BARNEA | MICHELE
BARNEA | ZWI
BARNEA | LILIAN | SHOSHANA
BARR | MAYA | FRIDA
BARTHEL | ANNA | MARIA
BARTHOLOMEW | STEPHEN | ERIC
BARTIK | KRISTIN | FRIEDA
BARTKUS | ANDREW | LLOYD
BARTON | MARY | LINDA
BARTSCH | JONAS
BATAY-CSORBA | JODI | LYNN
BATYRBEKOVA | AIZHAN
BATZOFIN | BARUCH | MARK
BAUER | JOHANNES | JAKOB
BAUER | BJORN | CHRISTIAN
BAUGH | WILLIAM | DONALD
BAUMAN | MARIE | M
BEAGLEY | JACQUELINE
BEARPARK | SHANNON | ANNETTE
BEART | JULIA | DAWN
BEATH | ROBERT | REED
BEAUPRE | RICHARD
BECKER | JEREMY
BECKER | DAMIAN | IAN
BECKER | BARBARA | ANN
BEKHAZI | PHILIP | NICHOLAS
BENATAN | DANIEL | NATHAN
BENNETT | BRADFORD | BRIAN
BENNETT | NORA | CASEY
BENOIT | REBECCA | JULIE
BENOIT | SANDRA | JOY
BERBARI | ADEL
BERGEN | JOSHUA | JAMES
BERGER | JAMIE | PAIGE
BERGERON | ALFRED | A
BERGERON | PAMELA | R
BERNHOEFT | FREDERIKE | AMELIA
BERRY | LUCIE | ANN
BERRY | TERRY | L
BERTHEIR | CAROLINE | MJ
BESWICK | SUSAN | ELIZABETH
BEUGH | PATTI | LYNN
BEYER | JILL | MAXINE
BHATTACHARYA | SANJAY
BICKERTON | NATALIE | ESTELLE
BIGWOOD | PATRICIA
BIRCH | GEORGIA | YORK
BIRCH | KENNETH | EARLE
BIRD | PETER | ANTHONY
BIRD | DIANA | LYN
BIRD | HEATHER | JANE
BIRD | BRIDGET | JANE
BIRNBAUM | ELLEN | SHARON
BIRNBAUM | ERIC | DAVID
BISHOP | MONIKA
BLACKIE | STUART | IAN
BLAES | SOPHIA | HELENA
BLANCKAERT | NORBERT | JULIUS CORNELIUS
BLANK | SOENKE | M
BLEGVAD | PETER
BLOMJOUS | NEAL | CHRISTIAAN
BLOOM | JEFF | ALAN
BLUNCK | PETRA
BODEN | SARAH | JANE
BODENHAM | ANDREW | JOHN
BOEFFARD | PHILIP | ALAIN
BOGOIEVSKI | JENNIFER | JAN
BOILY | CHRISTOPHE
BOLLER | CHRISTOPHER | WENDELL
BOLT | PHILIPP
BONA | MARK | ULRICH
BONNEFOUS | CLAIRE | A
BONTEN-ROSSER | ANN | ELAINE
BOTHWELL | HARRIET | ANN FLEMING
BOTKIN | COLIN | DAVID
BOUCHAUD | PIERRE-ETIENNE | PATRICK
BOZEK | JOANNE | S
BRADEN-GOLAY | JAMES | LADD
BRADFORD | DANIEL | TIMOTHY
BRADLEY | MARK | WILLIAM ROGER
BRADSHAW | LAURA | KATHERINE
BRECKMAN | COURTNEY | LYNN
BREECH | DAVID | PATRICK
BREITENBUECHER | DOMINIK | NICHOLAS
BRENDER | MARK | DAVID
BRIDGES | LEE | THOMAS
BRIGGS | BENJAMIN | ROBINS
BRINK | ROBERT | MAURICE SCOTT
BRODOWSKI | PETER | AUGUST
BROEKMAN | CATHARINA | C
BROOKE-BASRUR | KATHERINE
BROOKES | ROGER | IAN
BROOKS | MICHAEL | JOSEPH
BROUGHTON | GEOFFREY | IAN
BROWN | EMILY | JANE
BROWN | JENNA | LOUISA
BROWN | ALEXANDER | BINNIE
BROWN | RANDAL
BROWNE | ELIZABETH | CLAIRE
BRUBACHER | SANDRA | JOAN
BRUDER | MELISSA | TOWNSEND
BRUEGGEMANN | ROMANA | NICOLETTA
BRUEGGEMANN | ADRIANA | ELENIA
BRUNS | KATHRYN | JANE
BRUNSTEIN | JOHN | DAVID
BUCHANAN | ELIZABETH
BUCHER | SIMONE | ANNE CATHERINE
BURDINE | MARJORIE | MAE
BURGESS | ANGELA | GAI
BURRELL | HANNAH | MARIA
BURRI | THOMAS | PATRICK
BUSI | JIN
BUTLER | LYNN | DONA
CAI | HUI
CALAVARO | FRANCO | OMAR
CALVET | MELISSA | MEGAN
CAMACHO | JOSEPH | RICHARD
CAMBANIS | STEFANIA
CAMERON | VANESSA | ALISON
CAMPBELL | VIRGINIA | S
CAMPBELL | CAROLYN | JANE
CAMPBELL | KATHRYN | ANNE
CAMRASS | GODFREY | RAPHAEL
CANTREL | DAVID | WAYNE
CAO | GANG
CAO | KANYU
CAPLUNIK | JONATHAN | LIOR
CARLESS | JOY
CARNEY | SEAN | M
CARSTARPHEN | KATHERINE
CARTWRIGHT | EDMUND | JAMES
CARUSO | FRANCOISE | ELIZABETH
CASE | OZELLE
CASH | TIMOTHY | MONROE
CASH | MADELINE | RUTH
CASSIDY | ANDREW | LAWRENCE
CATELLANI | HASSIMILIANO
CELY | MICHELLE | LOUISE ROBERTS
CEOLIN | ERIC | THOMAS
CEOLIN | ALYSIA | MARIE
CEOLIN | KIMBERLY | ANN
CHADWICK | BRADLEY | E
CHALMAN | CHARLOTTE | DALE
CHAMBERLAIN | JOY | ANNE
CHAN | RONALD | CHI-YIN
CHANG | JOHN | HYUN JOON
CHANG | AMY | INJI
CHANG | MING | YEUNG
CHANG | SUN | HEE
CHANG | YUAN-LUNG
CHAPMAN | JENNIFER | ELEANOR
CHARI | SANTOSH | SRINIVAS
CHELKOWSKI | WOJCIECH | FELICJAN
CHEN | THEODORE
CHEN | CHEN
CHEN | LI
CHEN | LIPING
CHEN | CLEMENT | CHENG WEN
CHENG | YU-LIANG
CHENG | BIN
CHENG | TAKAKO
CHEONG | DAVID
CHESHAM | ROBERT | G
CHETNER | JONATHAN | MILLER
CHEU | RACHEL | TINA
CHEUNG | SERENA | MAN DUEN
CHIARAVALLE | LUCREZIA | MARIA
CHO | DANIEL
CHOI | HEE | CHUNG
CHON | JINHEE
CHONG | MAGGIE
CHOUDHURY | AFM | NAZMUL
CHRIQUI | BENOIT | JOSEPH
CHUI | KAM | LING
CHUNG | LAWRENCE | G
CISKE | JOHN | OLIVER
CLAIRMAN | HAYYAH | YEHUDIT
CLARK | LAUREN | ELIZABETH
CLARK | STEPHANIE | JAY
CLARK | JOAN | MARIE
CLARK | TIMOTHY | WESLEY
CLARK | KARLA | MARIE
CLARK | DOUGLAS | G
CLARK | CAMILLIA | G
CLARK | LUKE | A
CLARKE | KYLE | LOGAN
CLARKE | CAROLINE | FRANCES
CLARKE ALLEN | MELINDA
CLEESATTEL | NORMAN | ROBERT
CLOUGHERTY | DANNY | THOMAS
CLUETT | STEPHEN
CODERRE | JENNIFER | ELIZABETH
COFFMAN | LISA | MAYUMI
COHEN | HILARY | ANNE
COHEN | CAROL | ELIZABETH
COHEN | EYTAN | M
COHLMEYER | DANIEL | ROBERT
COLIZOLI | OLYMPIA | DE LEON
COLLINS | DANIEL | RYU
COLLINS | STEPHEN | GRANT
COLTHOFF | NICHOLAS | SPENCER LEWIN ROM
CONNOLLY | JACQUELINE
CONNOR | JOANNE | MARGARET CLEAVER
CONNOR | SARAH | ASHLEY
CONNOR | KEITH | W
CONRAD | MELINDA | BLANTON
CONVERY | MAIRE | ANN
CONWAY | CHRISTPHER
COOK | BARRY | JAMES
COOKE | CHARLOTTE | LUCY
COPEMAN-HAYNES | CAROLINE | ROSE
COPES | DEBORAH | ANN
CORNAGLIA | ANDREA | LAURA
CORNELL | TAYLOR | MORGAN
CORRIERI | CHRISTINA | FRANCES
CORSIE | LISA | K
COSULICH | NESTOR | JORGE
COTTLE | KIMBERLY | ANN
COULOURIS | GEORGE | FRANKLIN
COUPENAC | PATRICIA | LE
COVILL | CHARLES | EDWARD
COWAN | JACQUELYN | ANNE
COWEN | DEBORAH | EMILY
CRAIG | BRIAN | LEE
CRAMER | PATRICIA | G
CRANDINI | ERMANNO
CREE | WARREN | CHARLES
CRITCHFIELD | EMILY | CAROLYN
CRNOGORAC | JOELENE
CROCKART | PATRICK | JAMES
CROCKFORD | ROSS | MICHAEL
CROGNALETTI | MARISA
CROGNALETTI | LORA
CROWDER | SACHIKO
CROXFOD | ANDREW | LEWIS
CRUZ | ALEXANDRE | MARCELO MARQUES
CUCKNELL | CATHERINE | MARIANNE
CULKIN FROMMELT | KATHELEEN
CULTON | LISA | KAREN
CUNNINGHAM | DEBORAH | LOUISE
CURIEL | RINA | KAMIDE
CUTHBERTSON | DAVID | JAMES
CVIJANOVICH | MILENA | ANNA
DAAR | BILE | AHMED
DAGOO-CALDAROLA | SHELLIE | R A
DAILLENCOURT | LOUIS | MARIE OLIVIER
DAL BORGO | MICHELLE | HOSKINS KINSKY
DALCHER | DAMIAN
DALEY | STEPHEN | PAUL
DANCHEK | JANICE | M
DANGKOSINTR | JITTIN
DANIEL | DUDLEY | G
DANIEL | ANN | E
DANIEL | SHARMILA
DAVIDOVIC | DAMIR
DAVIES | ANA | MARIE
DAVIES | GAIL | STEMMLER
DAY | BENJAMIN | CLIFFORD
DE FRANG | KENNETH | WAYNE
DE JONG | FLOOR
DE JUAN GARCIA | ARISTOBULO
DE KONING | DENNIS | FRANK
DE LOOZ-CORSWAREM | JOY | GABRIELLA JEANNE MARIE JOSEPH
DE LOVINFOSSE | NICOLAS | ARNAUD
DECA | DAVID
DEERBERG | FALKO | SEPP DIETRICH
DEGEN | GERHARD
DEGENS | SAMANTHA | ISABELLE
DEGENS | MELISSA | NAOMI AISCHA
DEL FAVERO | DAVID | WILLIAM
DELBOY | MADELAINE | AMY
D'ELIA | HILARY | E
DELISLE | RYAN | MATTHEW
DELL | WILLIAM | ALEXANDER
DELTAS | JOANNIS | CONSTANTINOS
DEMPSEY | CYNTHIA | D
DENG | JUNCHENG
DENNESS | LAURENCE | CHARLES
DENNEY | HOLLY | JOAN
DEPRENDA | MICHAEL | JOSEPH
DEW | GAVIN | LLEWELLYN
DI MAIO | ALESSIA | MARIA FRANCESCA
DICECCO | DANIELA | P
DICK | LINDA | G
DIETIKER | SUSAN | MELANIE
DIETRICH | MARK | RICHARD
DING | XIAO
DINNEEN | DANIEL | MARK
DIOCAMPO | KRISTOFFER | RYAN
DIRSCHERL | JENNIFER | MARIE
DIRSE | GINTAS
DISSLY | SARAH | MARGARET
DIXON | JAMES | LEE
DODD | KATHERINE | ELEANOR
DODD | FRANCES | MARGARET
DODSON | MARGARET | ANN
DOGGETT | DAVID
DOGORITIS | ATHANASIOS | GEORGES
DOLAN | LAURIE | ELEANOR
DOLDING | HEIDI | MARIE
DONAHUE | PAUL | FRANCIS
DONALDSON | BRIAN | PAUL
DONNELLY | CAROLYN | PATRICIA
DOOLEY | SIOBHAN | MARY
DORIGO | ARTI | PRATAP SHIRKE
DOUGHERTY | ERIC | EDWARD
DOUGHERTY | NATHALIE | J
DOUGLAS | JENNIFER | NICOLE
DOWN | PETER | J
DOWNEY | ARON
DRACHEV | VLADIMIR
DRAGICEVIC | TODOR | TODE
DRAGICEVIC | KYONGBIN | BAEK
DREISE | JONATHAN | FRANCIS
DRESCHER | JEAN | M
DRESSI | PAOLA | PAOLA
DRISSI | SARAH
DRURY | MARK | ALLEN
DUIFHUIZEN | KARA | TISHA
DUNBAR | DEBORAH | VANESSA REBECCA
DUNKIN | PETRA | ERIKA
DUNN | DAVID | REED
DUNNING FRY | JENNIFER
DURAN | TAMARA | CHRISTINE
DUVALL | JONI | LEE
DYCK | RONNIE
EBANKS | DYLAN | R
EBY | LAURA | ANN
EDEL | ADELE | CHARLOTTE
EDWARDS | BRUCE | WILLIAM
EDWARDS | IWAN | JAMES
EGGLESTON | ELIZABETH | ANNE
EGLESTON | RADOLPH | WILLIAM
EINSTEIN | LYNN
EISENTRAUT | MATTHEW | ALAN
EIZAGA | CARMEN | M
EKTESSABI | MITRA
EL HAILOUCH | IMEN | R
ELDAR | TAMAR
ELENANY | SARAH | HAMDY
ELLINGTON | PETER | CHAFFEY BEATY
ENDE | TARA | LYN
ENDO | RINKO
ENGLAND | ANDREA | LYNN
ENGLER | TIMOTHY | MERIDETH
ENGSTROM | LAURA
EPPE CHAMBERLAIN | STEFANIE
ERBEY | ELSIE | ELAINE
ERDMAN | ASHLEY | ELIZABETH
ERENTZEN | CAROLINE | ANDREA
EREZ | TOM
ERSKINE-HILL | PATRICIA | ROSWELL
ESKEY | MICHAEL | THOMAS
ESMONDE-WHITE | HILARY | DALE
ESMONDE-WHITE | DELLIANA | ROSE
EUGSTER | PATRICK | THOMAS
EULERT | JOSHUA | ALFRED
EVANS | LYNDA | BARBARA
EVANS | LYN
EVERITT COLEMAN | PATRICIA | ELIZABETH
EWEN | LAURA | JANE
FACCIN | GIULIANA
FADDOUL | KRISTINA | KEENAN
FAIRWEATHER | SUSAN | LYNN
FAKHOURY | ELIE
FALCONER | JENNIFER | KATHLEEN LIVINGSTON
FALK | TIAGO | HENRIQUE
FANG | BING
FARAJI | SAYENA
FARQUHAR | ZAVARA | ELIZABETH LEVA
FARRELL | TODD | CHARLES
FARRELL | DAVID | ROGERS
FARSEROTU | NICHOLAS | LAURENT
FEATHER | JENNIE | BALL
FEBLES-FRANK | HANS
FEDERICO | LORENZO
FEINENDEGEN | LUDWIG | E
FELLING | JOHN | STEPHEN
FELTHAM | TERRI | LYNNE
FENG | NANCY | N P
FERGUSON | LAURA | BELINDA
FERGUSON | JACQUELINE | ELAYNE
FERGUSON | NORMA | JEAN
FERLAND | DENIS
FERRAROTTI | LAURA | VITTORIA
FERRAROTTI | MARISA | FRANCESCA
FERRIES | JAMES | JOHN RONAN
FETHERSTONHAUGH | CLAIRE | C
FETKO | ERIC | ARTHUR
FIEDOROWICZ | GRACJAN
FIGIEL | ANNA | MARIA
FISCHER | NORBERT | PETER
FISHER | AVRIL | JAYNE
FITZHUGH | EDWARD | ANTHONY HENRY
FITZSIMMONS | GARNET | ERICA
FLANDERS | DEAN | JAMES
FLOOD | BRONWEN | ELEANOR
FLYNN | DENNIS | ANDREW
FOCH | CATHERINE | EDUARDA TERESA
FOLLIOTT | LAURIE
FONG | BRANDON | GEI TING
FONG | PAMELA | ANNE
FONG | MATTHEW
FOO | MALCOLM | SHIH MIN
FORCELLA | BRUNO | PIERROT
FORD | KATHARINE | TRACY
FOREMAN | JEREMY | PHILIP
FOREMAN | KARIN | LYNN SWEENEY
FORTIN | DANIEL | JOHN
FORTUNE | OLIVIA | ROSE
FOSTER | JAMES | MICHAEL
FOX | JOANNE
FOX | CLARA | W
FOX | LISA | J
FRANCIS | ADAM | JAMES
FRANJOU | LIONEL | CLAUDE PASCAL
FRANK | JANET | LYNNE
FRASER | SHANNON | MARGUERITE
FREED | MARK | RONALD
FREEDMAN | LAURIE | JOAN
FREEMAN | NAOMI | LEA
FRENCH | MEGAN | ANNE
FREUDIGER | BRIAN
FRIEDELMANN | RUTH
FRIEDMANN | SANTIAGO | I
FRIESEN | ERICA | MICHELLE
FRIZ | PETER | CHRISTIAN
FUJIMURA | MARIKO
FUJISHIMA | MITSUO
FURUI | MASANO
FURUI | JOJI
GAERTNER | LORIN | SIEGFRIED
GAETTELIN | DIANNE | LYNN
GAGE | GEOFFREY | STEPHEN
GAINOR | MARK | JOSEPH
GALAMA | SARAH | BARBARA
GALITZINE | PETER | DIMITRI
GALLINAUGH | WILLIAM | GRAY
GARDNER | BARBARA | SUSAN
GARNIER | ARNAUD | PIERRE
GARSIDE | BENJAMIN | JAMES
GATES | MADELEINE | P
GAUBA | AMANDEEP | SINGH
GAUBA | DEVENDER
GAUDENZ | URS | DOMINIC
GAUGER | DEREK | KAZAN
GAUGHAN | HANNAH | ELIZABETH
GAUTHIER | DANIELE
GAVIOLA | BRIGITTE | BEQUET
GAYNOR | MARY | LOUISE
GEIGER | JUDITH
GELBER-LASSERS | MICHELLE | MARGUERITE
GELPKE | ARIANNA
GENDRON | ROBIN
GENDZWILL | DON | JOHN
GERA | NICOLE | JACQUELINE
GERRITY | JAMES | RICHARD
GETCHELL | SUSAN | J
GETTINGS | NATHAN | DALE
GHATALIA | SHILPA | ARVIND
GHAZOUANI | KEVIN | L
GILBERT | EMIKO | S
GILL | TIMOTHY | ELLIOTT
GILLIES | ANDREW | SAWYER
GIROUX | CHANTAL | RAYMONDE
GIUDICE | ENRICO | SIMON
GLAVE | JAMES | TREVOR
GODA | AKIRA
GODDARD | MICHAEL | ROBERT
GODEST | CONSTANCE | M
GOETZ | KARIN | BARBARA
GOGELA | NIKLAS
GOH | DAE | GUN
GOLD | NANCY | MARIE
GOLD | DIANE
GOLDBERG | TATJANA
GONZALEZ | SANDRA | ELIZABETH
GONZALEZ GARCIA | MARIA | TERESA
GOOD | AARON | DANIEL MOORE
GOODE | STEPHANIE | JANEL
GOODIN | BRETT | GARRETT
GOODRICH | REBECCA | SPANG
GORDON | FRANCES | JANE
GORRIGAN | GWYNETH | EVELYN ALEXANDRA
GORSKI | CHANTAL | JULIANE
GORSKI | KRISTEN | JANINE
GOUTHWAITE | PEGGY | LEE
GOUVEIA | LISA | MARIE GRACE
GRACY | KIMBERLY | NOELLE
GRAF JILNSKI | SILVIA | CHRISTINA
GRASSI | PAUL | JOSEPH
GRAVE | MELANIE
GRAVOUEILLE | HUBERT
GRAY | WILLA | JANE ELIZABETH
GREAVES | IAN | ALEXANDER
GRECO | CHRISTINA | MARIE
GRECO | TOMMASO | DAVIDE
GREEN | MICHELLE | RENEE
GREEN | ALISON | JANE
GREGORY | FRANCES | ANN
GREGORY | SHEREE | KATHERINE
GRIFFIN | NICHOLAS | JOHN
GRIGONIS-DEANE | ELIZABETH | MARIE
GRIGSBY | JESSICA | LILIAN
GRINSTEAD | JAMES | NICHOLAS HAMLIN
GROENEVELD | MARTIJN | REINIER
GROSSMAN | NATHALIE | SUNJA
GROVE | LACHLAN | ALEXANDER
GROVE | GRAHAM | LLEWELLYN
GROVE | DUNCAN | ANDREW
GROVES | SAMUEL | CARDER
GRUBER | AMIR | MAX
GRUENENFELDER | PASCAL | ALEXANDER
GRUNWALD | GLEN | EDWARD
GRUSZECKI | RAFAEL
GU | JIENI
GUMMERUS | NICOLE | SUSANNE
GUNOLD | KEVIN | STEPHAN
GUNOLD | PATRICK | ALEXANDER
GUNTER | WILLIAM | DANIEL
GUPTA | NICOLE | RENE
GUTJAHR | MARJAN | CHRISTINE
HABERER | THOMAS | PAUL
HAEHN | THOMAS
HAFNER | MONICA
HAGENBUCHLE | MERET
HAGIMORI | SHIGERU
HAID | ISABELL | TANJA
HALLAM | PAUL | WHITELEY
HAMADA | NATSUKI | RAY
HAMILTON | SHERIDYN | KAYE
HAMPL | MICHAEL | GEORGE
HAN | MOONSUK
HANOVER | CHARLES | E
HANSEN | DAVID | FRANKLIN
HANSEN | MORTEN
HANSON | HENRY DAVID | GAREAU
HARDEN | HANNAH | SEGOLENE CECIL
HARDER | INGRID | SUSANNAH
HARDIE | HILLORY | LOVE
HARIU | ATSUKO
HARIU | YASUHIRO
HARKINS | PATRICK | HALEY
HARMATARE | SIRJE
HARRIS | SUSAN | EVE
HARRIS | ZELDA | BARBARA
HARRIS | TERRY | LYNN
HARRIS | TRACEY | DALON
HART | EMMA | ALEXANDRA T
HART | JOHN | ANDREW
HARTMAN | ERIC | M
HARUN | HAPPY
HASHIMOTO | KEIJI
HASSAN | KHALID | M
HASSAN | QGASIM
HATCH | MARY | KATHRYN
HATORI | MASAKAZU | '-
HATT | ARTHUR | JEAN
HAWLE | JOEL | MALUHIA
HAYDEN | ANDREW | BRYAN
HAYDEN | JAMES | BRYAN
HAYDEN | SUSAN | JANE
HAYNES | MARGARET | JANE
HAYTON | GREGORY | CHARLES
HE | CHENGWEI
HEATON | NICHOLAS | J
HEBERT | PATRICIA | LYNN
HEENAN | RODNEY | STONE
HEESTAND | JOHN | WARREN
HEGARTY | ORLA
HEINIG | NORBERT
HEINRICH | CHRIS | KAICHI
HEIZ | DENIS
HEMMENDINGER | ANNA
HENDERSON | SEAN | LESSLEY
HENDRICKSON | BRADLEY | JAMES
HENRY | RUSSELL | CHARLESWORTH
HENRY | WILLIAM
HENZI | PAUL | FELIX
HERNON | ERIC | CHRISTOPHER
HERTEL | RUSSEL | EDWARD
HESSELBARTH | JANA
HEWITT | PATRICIA | ANN
HEWITT | PAUL | JOHN
HIBBERD | DOUGLAS | GREGORY
HICKEY | MICHAEL | ANTHONY
HIERMAN | RICHARD | CRAIG
HIGGS | PAUL | ANTHONY
HILL | ANN | BERNICE
HILSENBECK | LINDSEY | FRANCES
HINDS | SAMUEL | JOHN
HIOKA | SATOMI
HIRAI | MASAHITO
HIROSE | RICHARD | MOTOTAKA
HODGSON | JAMES | S
HODGSON | VALERIE | C
HOEKSTRA | MICHAEL | ALEXANDER
HOFMAN | JAMIE | AKKE
HOGAN | KRISTINE
HOLBERT | STEVEN | LEE
HOLST | REBECCA
HOOTON | BRETT | ANDREW
HOPPE | DANIEL | JOSHUA
HOSBACH | ANDREAS | MARKUS
HOUGI | RONI | CHARLES
HRYNEVYCH | MICHAEL | ANDREW
HUA | JIACHEN
HUANG | TONY
HUANG | HUI
HUBER | JANET | RUTH
HUCKER | WESLEY | DAVID
HUFFMAN | JOAN | EVELYN
HUGHES | RYAN | DAVID BENJAMIN
HUGO | CATHERINE | MARIE
HULST | DANIELA
HUMES | DONALD | CARL
HUNG | MARIA | LILLY
HUNT | MARGARET | FRANCES
HURLEY | IAN | DOUGLAS
HURST | CRISTIANA | NORI
HUSAIN | IRAM
HYUN | DUK | JOO
INABA | SEIICHIRA
INDER | MICHELLE | J
INGLESON | DAVID | WILLIAM
INNES | SARAH
INVERNIZZI | FRIEDERIKE | IRENE SABINE EDITH
ISBELL | KYLA | JANE
ISHAK | RONALD
ISHIKAWA | HARUKA
ISHIKAWA | TORU
ISHIOKA | HARUO
ISHIZUKA | HIROAKI
ITABASHI | YUKARI
ITO | ASAKO
ITO | YOJI
ITO | OSAMU
ITO | TOSHIRO
IWAIZUMI | MAINA
IWASA | TOMOKO
IWASAKI | MAKI
JACKSON | DARREN
JACOBS | JEAN | MARIE
JACOBSEN | DONALD | L
JADERLUND | BETTINA | ANN
JALBERT | ELISABETH | MARIA IRENE
JAMAL | SHELINA | M
JARRELL | BARRETT | A
JARVIS | JAMES | JOHN
JAZI | MAZEN | RACHID
JEFFERS | ANN
JEFFERSON | OLIVER
JENKINS | CHRISTOPHER | M
JEZINA | ADRIAN | JOSIP
JI | XIAO | A
JIANG | CHRISTOPHER
JOHN | FRANZ | M
JOHNSON | MICHELLE | KLAZINA PIETERKE
JOHNSON | VIRGINIA
JOHNSON | LUKE | NEALE
JOHNSON-ABBOTT | SYBIL | JOYCE
JOHNSTON | SAMUEL | SCOTT
JOHNSTON | CYNTHIA | ANN
JONES | BENITA | ROSALIE
JONES | SARAH | ELIZABETH
JONES | ELLEN | MAMAHON
JONES | CHARLENE | NORMA
JONES | SUSAN | JOAN
JONES | PETER
JOSELIN | DOROTHY | ANNE
JUD | ANDREA | KATJA
JUNKER | TAMARA | ANN
KAGOMA | YOAN | YVES
KAHL | STEPHAN
KAKUDA | YUKIO
KAMEYAMA | SHINJI | STEVE
KAO | ERIC | FONG CHI
KARAGIANNIS | DIMITRIOS
KARLBERG | NICHOLAS | DAMIAN MARK
KARLSEN | KARIN | ELIZABETH
KASE | CHRISTOPHER
KASE | ALLESON
KATAPALLY | VIJAYALAXMI
KATZ | AMIR
KAUFFMAN WEILL | SUZY | MELISSA
KAY | PETER | ANDREW MACK
KAZANJIAN | TAMAR | NICOLE
KEDJORA | STEPHANAES
KEELAN | THOMAS | RICHARD
KEISLAIR | MARJOLEIN | DOMINICA
KELLER | BARBRA | FELDPAUSCH
KELLY | BENJAMIN | THOMAS
KELLY | DORA | GLENN
KENDALL | DAVID | HENRY BERENGER
KENNEDY | CATHERINE | GISELLE
KENNETT | MATTHEW | JAMES
KENNETT | BROOKE | CASEY
KERNER | DAVID | LASSEN
KERR | SHALON | MIRA
KERR | DOUGLAS | STEVEN
KERR | DYLAN | MICHAEL RONALD
KESTNER-GALAMA | KRYSTAL | ANN
KHALFAN | NOORAMI
KIDRON | MAYA
KIM | KYUNG-HEE
KIMURA | YUKI
KING | KENNETH | GLANVILLE
KING | LYDELL | JASON
KIRK | MACKENZIE | AUSTIN
KIRSCHNER | ANTHONY | LOUIS
KITAOKA | CHISAKI
KLAHR | ALEXIS | JEAN CHARLES
KLEIMAN | RONA | LYNN
KLEIMAN | MARK | JEROME
KLEINBLOESEM | JOHANNA
KLEYN | JULIAN | PHILIP TAKESHIRO
KLINE | ELLA | MADELINE BIRLEY
KLOSKA | RANDALL
KLUSIK | ANN-KATRIN
KO | BO | KYUNG
KOBAYASHI | MUSASHI
KOBAYASHI | KAZUKO
KOBAYASHI | TOSHIYUKI
KOBAYASHI | MASAMI
KOCH | SVEN
KOENIG | JUTTA | RENATE
KOEPSELL | CAROL | JEAN
KOHLER-JIMENEZ | MICHELLE | MIRIAM
KOJIMA | CHIKAKO
KOLTES | STEVEN | FREDERIC
KOMATSU | MINORU
KOMURA | NIIMA
KONIG | MARTHA | JANE
KOPP-TANAKA | NOEMI
KOREN | OLGA
KORENBILT | SIMEHA
KORTBEEK | KATHY | VICTORIA
KOSSMANN | MAXINE | ELIZABETH
KOST | GENIA
KOST | JOSEPH
KOSTER | ALEXIA | LYNN
KOSTOLNIK | CAROL | ANN
KOUROUVAKALIS | NICHOLAS
KOUROUVAKALIS | GEORGE | DEMETRIOS
KOVACEVIC | DUSAN
KRACHT | MARCUS | GERHARD
KRAMME | RAINHARD | G
KRASNA | DANIELA
KRISTIANSEN | JAN | HARALD
KRITIKOS | JONATHAN | JAMES
KROEKER | JOHN
KROETTINGER | SOPHIA | LINDE
KRONENBURG | LISA | ELAINE
KRUG | ANNE | BARBARA
KRUGER | SABINA
KUDENHOLDT | KAI
KUEHNBAUM | ANN | LOUISE
KUNIYOSHI | AKIHA | MANUELA
KUNZ | WOLFGANG | PATRICK
KURASHINA | YUKIE
KUROKAWA | MIKI | CYNTHIA
KUROKI | SHOICHI
KUSUMOWIDAGDO | JOZEF | SUBROTO
KUZMA | MICHAEL | JOSEPH
KWAN | KENNY | SIU CHI
KWOK | STANLEY | KAR KUEN
KWONG | PUI | LING
LAANE | NICHOLAS ANTOON | KEVIN MARIE
LABARTHE | JULES | JUDD
LAM | FREYA | KEZIAH
LAMBERT | MARGARET | ELIZABETH
LAMBERT | MARK | GARY
LAMBERT | CLINT | B
LANGFORD | VICTORIA | SOLVEIG
LANK | HANNAH | MONICA
LANZON-HOLMAN | CHIAH | STAR
LARIMER | SUSAN | JANE
LAROCHETTE | ALAIN | MICHAEL
LARSEN | DANA | MEEGAN
LATCH | RICHARD | WILLIAM
LAU | HOK | WAI
LAUTERMILCH | DARYL | GORDON
LAVERICK | ERIC | W
LAWRENCE | HOLLY | MARIE
LAWS | CHRISTIAN | SIMON
LAWSON | KAREN | LARIMER
LAWTON | KARIN | JEAN
LAWTON | JOAN | DONNA
LAZARUS | ROSS
LE | HAINI
LEAL | JUAN | JOSE
LEE | YOUNG | CHUN
LEE | KAREN | MING
LEE | DANYELA | PETRA SHU SEN
LEE | JONATHAN | SANTOS
LEE | HUI-JU
LEE | PING | HUA
LEE | MUH | RONG
LEES | SCOTT | ALLAN
LEGAULT | BRIAN | J
LEIBINGER | LAURENCE | PETER BERTHOLD
LEMIEUX | MELISSA
LEMZOUDI | NADIA
LERNER | DEBORAH | KAY
LESJAK | ANDY | JOHANN
LEUNG | BONNIE | WAN SZE
LEVETT | CHARLES | JOHN WESLEY
LEVY | AVIVA | DANIELLE
LEVY | BENJAMIN
LEWIN | SARAH | ANNE
LEWIS | CAROL | JEANNE RAY
LEWIS | RYAN | FAIRHURST
LEYES | THOMAS | J
LI | HOI | TING VANESSA
LIANG | OLIVIA
LIANG | HANS
LIANG | KWUI | SIANG
LIAO | ERNIE
LICHTENSTADT | AVIAD
LIE | SYLVIA | SIU MI
LIE | FRANK | JONG PENG
LI-LEGER | CORA
LILEIKIS | CAROL | ANN
LIM | LIC | KIAM LINOLN
LIM | MARY | YULING
LIM | ALLYANNA | ANG
LIM | ININ
LIN | CHUN-YING | FRANK
LINDSEY | SAMAMTHA | MARIE
LINDSEY | KATE | SARAH
LINDSTROM | GEORGE | WILLIAM
LIPPIETT | AMBER | LEIGH
LITSIOS | ACKLEY | GREGORY
LITVAK | TRIXIE | E
LIU | JULIA | JOANNA
LIU | BINHE
LIU | YUXI
LIU | YUCHEN
LLOYD | STEVEN | MARK
LLOYD | MARY
LO | MAN | FU
LO | YU-YING
LOCKETT | RAMIEL | COVANCE
LOCKHART | LEAH | MICHELLE
LOEPPKY | KELBY | REBECCA
LOESCHE | PETER | MATHIAS
LOMAX | CHRISTINE | ANN
LONEY | DINAH
LONG | MEGAN | KATHLEEN
LONGLEY | LILY | SAMANTHA
LOPOUKHINE | MARY | ANN
LORENZ | RYAN | GORDON RENNER
LORME | KENNETH | JOHN
LOW | ROBERT | GRAHAM MALCOM
LOW | CHARISSA | KIRSTEN
LOW | JOY | ZEE FOON
LOWE | GWENDOLYN | KWONG
LOWENSTEIN | GEMMA | CLAIRE
LOWENSTEIN | NATALIE | ROZENTAL
LU | JULIE | SU-LI
LU | JERRY | YU-CHI
LU | PEI-CHUN
LU | YONGMEI
LUCAS | SUSAN | MARIE
LUCO | BENJAMIN
LUCO | ROBERT | MICHAEL
LUK | VINCY | CAROL
LUMIS | ERIC | PETER
LUN | VICTOR | WAI-TO
LYNAM | JAMES | FENNEY
MAANI | KAMBIZ
MACDONALD | ISAIAH | ERNEST NORMAN
MACFABE | LESLIE | A
MACHOLD | CLEA | ALEXANDRA
MACKENZIE | JAMES | STEWART
MACKENZIE | MILDRED
MACLEAN | KATHARINE | ALEXANDRA
MACLENNAN | DAVID | NELSON
MACLEOD | KRISTIAN | ALEXANDER
MACMILLAN | DAVID
MADDALONI | JOHN-MARKUS | HARRIS
MADDOCKS | GAVIN | NEIL
MADDOX | BRONWEN | MARIA
MADRABAJAKIS | ALEXANDER | GEORGE ELEFTHERIOS
MAEKAWA | IKUKO
MAGEL | LILIAN | K
MAGISSON | EMMANUEL | REGIS
MAILLETTE | PATRICIA | D
MAIR | TAMARA | ROSALIA
MALDACKER | MAXIMILIAN | EDUARD
MANELES | STEPHANIE | ASHLEY
MANKI | FARZANA
MANNING | NAOMI | LISA
MANSUR | DEREK | JORDAN
MANZKE | KETEVAN | BURDULI
MARCHANT | JASON | WILLIAM ANTHONY
MARCHIORI | PAOLO
MARINESCU DE HARVEY | RODICA
MARKHAM | BRIAN | CHRISTOPHER
MARLATT | SUSAN | EILEEN
MARSHALL | KATHARINE
MARSHALL | NICHOLAS | EDWARD
MARSIAJ | JOANA | SOPHIA
MARSURA | PATRIZIA
MARTELL | EDWARD | SAUNDERS
MARTENS | NANCY | LEE
MARTIMBEAU | CLAUDE-EMILIE | MARTIMBEAU
MARTINEZ DE OLIVEIRA | FERNANDA
MARXER | CLARISSA | JOANNA
MASON | JAMES | LEONARD
MASSE | JEAN | PIERRE
MATHERS | JENNIFER | JONN
MATSUO | MINAMI
MATSUO | SHOJI
MATSUO | KATSUMI
MAUERSBERGER | JASON | RICHARD
MAXWELL | TOBIAS
MAY | BRIAN | WILLIAM
MAYER | RICHARD | LEE
MAYES | ERIC | LEIGH
MAZURYK | MICHAEL | ANTHONY
MCBARRON | MARTHA | ASHBROOK
MCBRIDE | REENA | DARRAH
MCCALLUM | JANET | LOUISE
MCCANDLESS | CONNIE | JEAN
MCCARTHY | SCHMARRAH | AKIISHA
MCCORMICK | ALEXANDER | FRANCIS
MCCOY | LIZA | L
MCCRACKEN | MICHAL | RUTH
MCCULLOCH | DEVON
MCDONALD | HOWARD | HEATH
MCDONALD | HAMISH | CALLUM
MCDOWELL | JOHN
MCDOWELL | LYNN
MCFARLANE | PAULA | LEE
MCGILL | CHARLOTTE | EVELYN
MCKENDRY | KRISTEN
MCKENDRY | BARRY | WILLIAM
MCKISSOCK | DANIEL | JAMES
MCLAUGHLIN | DENNIS | A
MCLEAN | JOCELYNE
MCLEAN | CHARLES | N
MCMANUS | TIMOTHY | JOSEPH
MCMULLEN | DANIELLE | ROSE
MCNALLY | JOHN | KEITH
MCNAMARA | JOAN | MARIE
MCNEIL | KATHLEEN | LEE
MCROBB | KATE | ELIZABETH
MCSHARRY | NIALL | M
MCVEIGH | SHAWN | PHILIP IKAIKA
MEDAWAR | PETER | NICHOLAS DAVID
MEI | XUEFENG
MEIER | BERNHARD | FRANZ
MEISTER | TRETA | MARIE
MELANSON | PAUL | ALBERT
MEREZ | ANNETTE
MERKLI | TOBIAS | BALZ
MERNAGH | FIONA | ELIZABETH ANN
MESSERLI | MARCO | WEILONG
MEYER | MELANIE | ANNETTE
MEYERS | SAMANTHA | J
MIANI | KIMBERLY | LAURE
MICHAEL | THOMAS
MICKLE | GARY | RALPH
MIDDLEBROOK | ANN
MIDDLETON | KURT | ALLEN
MIHELIC | ALBERT | WILLIAM
MIKOSZ | FILIP
MILKOVICH JR | MARTIN | JAMES
MILLER | DODIE | MAHAFFY
MILLER | ELIZABETH | SUSAN
MILLWOOD | BUDDY | WAYNE
MILMAN | ISA
MILNE | RICHARD | ALLEN
MIMATSU | SAORI | LAURA
MISIEK | MARTE | ELIZABETH
MIYAKE | DAISUKE
MODY | ALISHA | TARA
MODY | CYRUS | JAMSHED
MOELLNER | EDWARD | AMEDEO
MOEN | SHERYL | ANN
MOHAMED | FARAX | SOOFE
MOLYNEAUX | SHARON | RUTH
MONAHAN | PAUL | FRANCIS
MONDILLO JR. | DOMENIC
MONIUK | ANNE | MARIE
MONSEN | CHRISTIAN | REKSTEN
MONTAQUE | MARY | ELLEN KATHRYN
MONTELLE | PIERRE | GRANT
MONTPLAISIR | NANCY
MONTVAI | BALAZS
MOON | DAVID | R
MOOR | HILARY | CATHERINE
MOORE | LINDSEY | SARAH
MOORE | ROBERT
MOORES | JOSIAH | MARK
MORE | HEATHER | DIANE
MORETON | CLAIRE
MORGAN | CHARLES | JOSEPH
MORGAN | ROBERT | ELLIOTT
MORICE | ANTHONY | ROBERT
MORIN | JULIE
MORSE | RACHELLE | PAMELA
MORSELLI | RUGGERO | M
MORTENSON | LEIF | AARON
MOSELEY | LUKE
MOSER | JASON | FELIX
MOSER | MARISA | ANNE
MOSKER | ANDREA | ANTONIETTE
MOSS | MARI | ANN
MOSZKOWSKI | FAYE
MOULD | PENELOPE | J
MUERRENS | ALAIN
MUI | WUNLING | JENNIFER MARY
MULLEN | KIRSTEN | BELINDA
MUNTEAN | KALIYA | CAYENNE
MUNZ | MARTIN | RETO
MURGAN | RAJAN
MURPHY | COLIN | GEORGE
MURRAY | SARAH | LOUISE
MUSQUETIER | MONIQUE | ARJANNA
MUSQUETIER | MICHAEL
MWAMBU | ALQAMA | AMRU
NAITO | TAKASHI
NAKAJIMA | FUMINITO
NARISAWA | RYO
NATALE | LOUIS | FREDERICK
NATH | ZOE
NATHAN | DELVIN
NAZMUL | SYEDA
NEEDHAM | ANJA | KATARINA
NEEF | REINHARD | JAMES
NEIZERT | ASHLEY | KATHLEEN
NELSON | LINDA | BETH
NELSON | WILLIAM | DOUGLAS
NELSON | GILLIAN
NEO | SU-REN
NEUFELD | KENNETH | W
NEUFELD | LESLEY | M
NEUMANN | ROBERT | MICHAEL
NEURAY | GILLES | A
NEVILLE | GREGG | ALEXANDER
NEWELL | PAUL | DWIGHT
NEWLYN | MARGARET | DE LASHMUTT
NG | DAVID | THOMAS KUO CHUNG
NG | KEVIN | CHUN-YIN
NGUYEN | KIM-ANH
NI | JING
NI | LIONEL | MING-SHUAN
NICHOLAS | ASHA
NICKEL | JUDY | JUDITH
NIEMAN | TRAVIS | RANDALL
NIGHTINGALE | BARBARA | CHRISTIENA
NIJNENS | PHILIP | SPENCER
NILES | KIRSTEN | MARIJKE
NISHI | MIHO
NISHINO | KEN
NOELLE-KARIMI | CHRISTINE
NOLAN | ROBYN | LYNNE
NOLLER | MARTEN | STEVEN
NOMURA | SHINJIRO
NORMAN | JANICE | L
NORMANDEAU | ANNE-MARIE
NOSER | STEPHAN | ADAM
NUSINER | FRANCESCO
NUSSBAUMER | BRIGITTE | REGINA
OBEROI | RADHIKA
O'BRIEN | LOIS | A
OCHIAI | YUKARI
O'CONNOR | MADELINE
O'CONNOR | SEAN
ODDY | CATHERINE | MARY
O'DONNELL | PATRICK | J
OGURA | YUKO
OH | JAE-HYUK
OKAMOTO | SACHIKO
OKAZAKI | HIROSHI
OKUNO | KAYOKO
OKUNO | KATSUHIRO
OLDFIELD | BRONYA
OLIVESTONE | DAVID
OLTHUIS | JONATHAN | ALEXANDER
OM | KISUM | SUN
ONDERCIN | LUBOMIR | K
ONODERA | TEIKO
OPDAM | LILIAN | CHRISTINE
OPFERMANN | ERICH | CHRISTOPH
OPIE | TIMOTHY | MARTIN
ORFALD | DAVID | RUSSELL
ORTON | SAMUEL | TORREY
ORUI | CHIAKI
ORUI | TSUKASA
OTA | MAMI
OTA | SHIGERU
OTANI | MOTOKO
OTANI | KOICHIRO
OTIS II | TERRY | LEE
OTTENHOFF | JANNA | SOPHIE EUGENIA
OTTO | MARINUS | J
OVERAND | KIRK | FRANKLYN
OZDIL | SELCUK
PAETKAU | ROSEMARY | JEAN
PALLERES | CRISTIANA | VAZQUEZ
PAN | ZHENGZHENG
PANETHERE | NICOLE | MARIE
PANIWALA | ABDUL | RAHIM
PAPANASTASIOU | CHARILAOS | ANASTASIOU
PAPAURELIS | MARIJA | CECILIA NARKUS
PARADISGARTEN | MATTHEW
PARASKEVOPOULOS | KATHLEEN
PARENTEAU | HUGUES
PARK | RACHEL | HUEI-SOOK
PARK | YOUNGOK
PARK | KYUNG | HO
PATE | ALAN | DAVID
PATE | KINLEIGH | ERIN
PATE | MICHAELA | JORDAN
PATEL | CHARULATA | BHULABHAI
PATEL | ANITA | N
PATEMAN | CHRISTOPHER | EDWARD
PATTON | BARRY | ALAN
PAULOCIK | CHRISTINE
PEACOCK | SEBASTIAN | JAMES HUNTER
PEDEN | NORMAN | ARTHUR
PEGGION | GERMANA
PEIFFER | DOUGLAS | FRANCIS
PELIT | KEMAL
PENNER | REBECCA | PAULINE
PERKINS | LAVELLA | NORENE
PERRIER | MARC
PERRY | PATRICIA | D
PERSON | JOHN | JACOB
PETER | CLEA | FLORIDA
PETERSON MINTER | MARIANNE | FRANCHOT
PETRINI | CIPRIAN | LAURENTIU
PETROVIC | OLGA
PETRUS | BRIAN | ANDREW
PETRUS | ANTHONY | WAYNE
PETTAU | STEPHANIE | MARIE
PFEIFFER | CLAUDIA | MARCELLA
PFLIGER | CHARLES | DANIEL
PHARR | LOUISE | A
PHORNPRAPHA | PRAPUTT
PICHLER | REGINE | JOHANNA
PIEKLO | BARBARA
PIIRONEN | KIRSTI | ELEANOR
PILARSKI | PATRICK | MICHAEL
PILKINGTON-MIKSA | SOPHIA | KATHERINE
PINTO | JULIANE
PIZZO | DAMICA | MARIE ANNE
PLETT | EDDY | BERNHARD
PLEUGERS | ISABELLE | MARTINE
PLOWRIGHT | MARCUS | ACHILLE
POHL | NICOLE
POINT | VIRGINIA | LEE
PONIMAN | ANGELICA
POOLE | JUSTIN | ELLIS
POSTMAN | BRENDAN | KENT
POSTMAN | DAMON | LEIGH
POTTENGER | TORY | ANNE
PRATT | KAREN | A
PRECHT | MAGNUS
PRESCOTT | WILLIAM | JOHN COMPER
PRETNAR | KATHARINA | MARIA
PRIETO | MAXIMILLIAN | LEE
PRIETO | DAVID | ALEXANDER
PRIETO | ERIC | ISAAC
PRINCE | SAMANTHA | RUTH
PRIORE | STEFANO | LO
PROCTER | KRISTIN | M
PROULX | GRATIEN
PRUNTY | AMARA | DENICE CARIGNAN
PUA | JEFFREY | NGUYEN
PUDWELL | HEIDI | AMANDA
PURNAMA | VANESSA | ILAVYNIA
PURVES | JAMES | ANDREW
RABENECK | LINDA
RAD | HAMID
RADIN-ROUG | IAN | LARS
RADTKE | KRISTIN | JENNIFER
RAGAZ | CAROLYN | ALLISON
RAGY | SABINE | HELENE
RANDAZZO | CHRISTOPH | STEFAN
RAO | SABINA
RASMUSSEN | ANDREW | COLIN
RAVENSBERGEN | VERA
REA | SHAWN | GAYLE
REAUME | GREGORY | MARK
REDIKER | CAROLE | SUSANNE
REDKAR | ARCHANA | S
REED | ROBERT | ANDREW CARLTON
REED | CHRISTOPHER | LAURENCE
REEVES | ANDREW
REGNER | GERHARD
REGUEIRO | ALANO | FLAVIO
REIMER | MATTHEW | IAN
REMINGTON | LAURA | JEAN
REMOY | SEBASTIAN
REN | CHUN | LIU
RENGIFO | JULIANA
RENTZ | LAURI | ANN
RENTZ | BARRY | LYLE
REYNOLDS | CATHERINE | ANNA JANE
RHEE | MONICA | YUN
RICCI | FLORENCIA
RICE | GREGORY | PATRICK
RICHARDS | MEGAN | GAY
RIDDERVOLD | HANS | O
RIDDY | ADAM | J
RIFAT | SANDRA | LOUISE
RIGGS | EMILIE | LYNN GARAT
RIOUX | JEAN | SEBASTIEN
RISCHER | STEFAN | FORBES
RISSEEUW | MEAGAN
RIVAS | JUAN | ANTONIO
RIVERAL | DEO | RODRIGO RIVERA
ROACH | DAVID | JOHN
ROBERTS | DENISE | MARIE
ROBERTSHAW | LEONIE | ROSE
ROBILLARD | MARIE | LISE CHANTAL
ROBINSON | DEBRA | JANE
ROBINSON | REBECCA | KATHLEEN
ROBINSON | FREDA | M
ROBSON | JANET | PATRICIA
ROCHON | EILEEN | CAROL
ROCK | COSMO | STANLEY
ROCKWELL | HEIDI | H
RODENHUIS | IRMA | E
RODRIGUE | LUCIE
RODRIGUEZ | MICHAEL
ROEBUCK | JENNIFER | ELLEN
ROEDER | NICHOLAS | ANDREW
ROEDER | CHRISTINE | ANTOINETTE
ROEDER | MICHAEL | THOMAS
ROGERS | SAMUEL | ALVIN
ROLNICK-CREMASCO | NAOMI
ROMAIN | RONALD | VINCENT
ROMANOW | VALERIE | ANNE
ROONEY | PATRICIA | SUE
ROSBACH | CAITLIN | MARIE
ROSE | MARY | CLARE
ROSE | ERIC | SCOTT
ROSENBLOM | HANNA | V
ROSENBLOM | KARL | A
ROSENSTEIN | DEBORAH | CHARLOTTE
ROSENSWEIG | ANAT
ROSKIES | DEENA | BRONSTON
ROSS | DAVID | JOHN
ROSS | KELLIE
ROST | JOHN | KENNETH
ROTH | ANDREW | EUGENE
ROWAT | LENA | TERESA
ROWLEY | NATALIE | VICTORIA
ROY | PAOLO | DAVID
RUBIN | MAURY | DANIEL
RUBIO | JULIA | MIRIAM
RUSSELL | LAVERNE | SCOTT
RUSSELL | THOMAS | LEE
RUSSELL | HENRY | ALDEN VERPLANCK
RYAN | DANIEL | MICHAEL
SABANAYAGAM | RENUKA
SAGI | MARJA | L
SAGI | MARJA | L
SAINT-PIERRE | LYNE
SALIER | PORSCHE | J
SALIERNO | ALDO | THOMAS
SALIOU-DIALLO | RASCHID | AHMED
SAMARA | NICHOLAS
SAMARIN | JORGE
SAMPSON | CATHERINE | JANE
SANDS | MICHAEL | THOMAS
SANTORO-DIAZ | FLAVIA
SAPIN | GILBERT | JOSEPH
SARIDOU | KYRIAKI
SASANUMA | SETSUKO | CECILIA
SAUNDERS | SUZANNE | MAREE
SAWAF | SAMMY | MAZEN
SCHAFFER | STEVE
SCHALL | ERNEST | BRUCE
SCHALLER | YASMIN
SCHARPF | SUSAN | THOMPSON
SCHEFER | URSULA
SCHEMBRI | ADRIAN | PAUL
SCHERER | JEAN-BAPTISTE | CHESTER
SCHIMPF | BLAIR | RICHARD
SCHLAGEL | FEDERICO | ANTONIO
SCHLEIBACH | WILHELM
SCHLEIBACH | ANNE | D
SCHLUEP | SAMUEL | DENIS
SCHMIDT | JULIEN | GERALD
SCHMITZ | DORIS | K
SCHNEIDER | KAREN | SELSER
SCHOLTEN | HELLY | NICOLE
SCHROEDER | MATTHIAS
SCHROYENS | ANN | KATHLEEN
SCHUCK | SUSAN
SCHUELLER | TANIA | DAVINA
SCHULTZ | GORDON | PAUL
SCHULTZ | KENNETH | RICHARD
SCHWIZER | ALEXANDRA | CARMEN
SCOBEE | BIRUTE
SCOTT | ANNE | MARIE
SCOTT | RACHAEL | JANE
SCOTT | REBECCA | SARAH
SEAMAN | BENJAMIN | ROBERT
SEGEN | JOSEPH
SEIERSEN | JULIE | LEE
SENRA | ANTONIO | FRAGOSO
SERRANO PEINADO | ADELA
SEWARD | KEITH | ROBERT GEORGE
SHABAN | RULA | G
SHAFRIR | AMI
SHAH | SEJAL | SIDDHARTH
SHAN | XIAOYONG
SHANMUGANATHAN | PREMALA
SHARP | NICOLA | ELIZABETH
SHASTRI | VALLABH
SHAW | CHRISTOPHER | MALCOM
SHAW | CARL | DEXTER
SHAW | NEIL | BOYD
SHECHTER | YAEL
SHEIKH | ABUSAAD | SAMAD
SHIACH | ALASDAIR | G
SHIBATA | KUMIKO | TAKAGI
SHIBATA | NOZOMU
SHIBULAL | SAROJINI | D
SHINDLER | MICHELLE | LUCY
SHIOMI | MASAKI
SHIPPEE | ADRIENNE | L
SHIROMA | NAGAKO
SHUPE | GLENDA | DIANE
SIEGFRIED | DAVID
SIMMONS | JULIE | ANNE
SIMS | JENNIFER | EFFIE
SIN | SEOHYUN
SINCLAIR | PATRICIA | DREW
SINCLAIR | STACY | NOEL
SINGER | LOIS | VIRGINIA
SINGH | RAMINDERPAL
SISSON | DEBRA | E
SJAHRIR | PANDU | PATRIA
SJOBORG | STEIN | ROBERT
SMALL | ADELE | CHANA
SMALLWORTH | ANNETTE | LINDA
SMILANSKY | ALEXANDER
SMITH | PETER | EDWIN
SMITH | KIMBERLY | ANNE
SMITH | HARRIET | ELISABETH
SMITH | KENNETH | VINCENT
SMITH | SACHIKO
SMITH | DOUGLAS | STUART
SMOLDERS | JOHN-PAUL
SMYTHE | THOMAS | ERIC
SOFTY | LAWRENCE | ALEXANDER
SOLON BIET | SAMANTHA | MARIE
SOMMER | RAPHAEL | CHRISTOPHER
SONG | XIAOMEI
SORK | TYLER | JODA
SOW | ALHOUSSEYNI
SPATZ | MARK | STEVEN
SPERLING | ADAM | DOV
SPERLING | SANDRA | MARIE
SPRINGSTEEN | MAREN
SPROUL | SCOTT | ROBERT
SPRUTE | GERHARD | FRITZ
SRISUMRID | TAWEESUK
STACKERYD | LISA | C
STAINER | MAXIMILIAN | GUENTER
STANCIOFF | MARIA | TERESA
STANLEY | GEORGE | WILLIAM SLOANE
STARR | SAMUEL | SIEGEL
STEBLER | BEATRICE | SUSANNE
STEEGE | ALEXANDER | JOSEPH GARNISS
STEEGE | BRIAN | ERIC
STEEL | DEBORAH
STEIN | MATTHEW | JASON
STEINAUER | NIKOLAUS | HANS FELIX
STEINER | ROLF | THOMAS
STEPHENSON | RACHEL | ANNE
STERN | OLIVER | PATRICK
STEVENHAGEN | PAUL
STEWART | EMMA | CHARLOTTE VANSITTART
STEWART | MICHELLE | LOUISE
ST-GERMAIN | MARC | PAULL
STIEGER | TIFFANY | JANE
STIEGER | JENNIFER | ANN
STIX | MADISON | ALLAN JAMES
STIX | KRISTYNA | ALICE RENEE
STIX | STEPHANIE | PAULINE
STORCHHEIM | LISA | FAITH
STORER | LEIGH | AMY
STRADA | MARY | ELLEN
STRAEHL | NICOLA
STRANGE | ELIZABETH | LUCY
STRATTON | RACHEL | ANN
STRAUB | KRISTINA | LINDA
STRAW | BARTHOLMEW | JOHN
STRECKER | MICHAEL | JOSEPH
STREET | ARTHUR | GEORGE
STROME | VALERIE | LYNN
STUART | SHELAGH
STUTZ | BRIAN | DAVID
SUCHE | ZOE | SUSANNE
SUGIURA | HIROKO | WOODLEY
SUHONEN | ANTTI | J
SURANA | CHANDA
SUSSMAN | AARON | NATHANIEL
SUTANTO | EDBERT
SUTCH | HANNAH | MARIE
SUTHERLAND | ROBERTA | DIENES
SUTTON | JEAN
SUWANSIRI | CHANTIMA
SUZUKI | FUJIO
SUZUKI | YASUKO
SUZUKI | SHOKO
SWAN | JASON | DAVID
SWIATEK | EVA | LOUISE
SWINAMER | ALAN | D
SWISTON | DAVID | SCOTT
SWITZ | ELIN | THERESE
SZE | DIANE | CHONG
SZU | CLIFFORD
SZUCHIEWICZ-KOSSAKOWSKA | ANNA
TAEGER | DAVID | ALAN ELROY
TAGG | DEBRA | DEE
TAKAHASHI | MIKA
TAKEDA | SHOUGO | WILLIAM
TAKEDA | MASAKKI
TALBOT | CHRISTOPHER | DENNIS BLAQUIERE
TAM | ESTEFANIA | SEEN MANN
TAMIR | MENASHE
TAN | JI | AN
TAN | YEE | YON
TAN | THUAN
TANG | YVETTE | WING-YIN
TANG | WEIAN
TANG | WANLI
TANG | PEIYAN
TANIGAWA | AKIHIKO
TATEISHI | DONALD | NORI
TAUBIN | ABIGAIL | ANN
TAVANO | RACHELE
TAYLER | SAMUEL | JOHN
TAYLOR | DAVID | CAMERON
TAYLOR | MICHAEL | CHARLES
TEEBKEN | SILJIA
TEEVIN | NATHALIE
TEGNER | ELISABETH | MONICA
TELL | MARY | JACQUELYNNE
TELL | ALEXANDER | JOSEPH EDMUND
TELL | IAN | PATRICK
TENCER | CATHERINE
TERSIGNI | LOURDES
TERSIGNI | GABRIELLA | TINA
TERSIGNI | CIARA | LORETO
TERSIGNI | DAVID | JOHN
THAWADI | HANAN | OSAMA
THEALL | LAURA | ANN
THEUERKAUF | NICHOLAS | ALEXANDER
THIEL | DIANA | ELAINE
THOMAS | MICHAL
THOMMEN TSCHANNEN | BARBARA
THOMPSON | MELANIE | KATE
THOMPSON | SCOTT | ANTHONY
THOMPSON | ANDREW | ARNOLD
THOMPSON | SEAN
THURLOW-MEYER | BEACH
THURMAN | PAUL | ALBERT
TILT | BEATRICE | ALEXANDRA ELIZABETH
TIMMS | JOHN | ALAN
TIMMS | NICHOLAS | ANDREW
TING | KHANG
TISSING-TAN | CAROLINA | JOANNA ALEXANDRA
TJANDRA | MARCELLINA
TOBISAKA | IKUKO
TOBISAKA | YUZO
TOMPKINS | KARL | HENRY
TOOLEN | CHRISTY | FINLAY
TOPPERWIEN | NATHANIAL | JAMES
TOUGHILL | SARAH | JEAN
TOURANGEAU | LUC | ROBERT
TOUSSAINT | DAMIEN | ROBERT WILLIAM
TRABANT | AMANDA | MERIE
TRACHSLER | KATHARINA
TRACHT | DAVID | JACOB
TRIMBER | MARY | ANNE
TROLLIET | ERIKA | MICHELE
TRUAN | CAROLYNE | SARAH
TRUSSELL | MICHAEL | RYAN
TSAI | CHENGI
TSE | JONATHAN | AARON
TSENG | SHUPING | PING
TSENG | PAULA
TURNBULL | KARIN | CHISHOLM
TURNBULL | DAVID | FRASER
TURNER | DAVID | HOWARD
TURNER | KARIN | ELIZABETH
UCHIDA | YUKO
UEMATSU | JUN | FRANCIS
ULLMAN | LAUREN | A
UMSTAETTER | JOHANNES | DIETER
UNGER | BRIAN | JAMES
UPDIKE | SUZANNE | TODD
URSEL | ERICK | FREDERICK
URSEL | JAMIE | ANN
UTHAICHALANOND | PAUL
UTTER | MEGAN | KATHERINE
UTZIG | GREGORY | FRANK
VACCARO | ANTONELLO
VAELILAE ROSS | LAURA | H
VAN BUSSEL | ROBERT | GORDON
VAN DEN BEEMD | RODNEY | JOHN
VAN DEN BERG | RODERICK | NORBERT
VAN DER SILK | BART | JOSEPH ANTONIUS
VAN DER STICHELE | SARA | JANE
VAN DYKE | CHLOE | CAROLYN MASSEY
VAN GELDEREN | MAURICE | BERTRAND
VAN GELDEREN | JEANNETTE | KAREN
VAN HEES | JOHN | NICHOLAS
VAN INGELGEM | JACQUELINE | J
VAN POEDEROOYEN | MAXWELL
VAN PRAAG | JACQUES | MAX
VAN VLIET | RAYLENE | ORA
VAN ZYVERDEN | ELISABETH
VEITCH | TARA | MACNEIL
VERBREE | ADRIAN | HENRY
VERGOUWEN | KRISTIN | KUINN
VETERE | JANET | MARLENE LO
VICTOR | KENNETH | IRA
VIERTEL | KARL | WARREN
VILLAMIL | LAURA
VILSON | MARITA
VILSON | MIKAEL
VINCENT | JAN | MARIE
VISRAM | NAZIR
VOGEL | AMANDA | JANE
VOGT | CEDRIC | MAXIMILIAN
VOLOSHIN-STIX | SUSAN | PAULETTE
VON HANNOVER | CAROLINE | LUISE
VONG | HENRY | SAI MING
WACHTMAN | EMILY | KATHLEEN
WADDINGTON | JOSH | O
WADEHRA | AMITYUVINDER | KAUR
WALES | CHRISTOPHER | RICHARD
WALKER | MARIE | CATHERINE
WALLACE | FRANCESCA | THEKLA
WALLBRIDGE | JANE | ELIZABETH
WALSER NIETHAMMER | BIGNA | MICHELE
WALTON | KELLY | JO
WANG | ZHOU
WANG | CHIJYUN | JILL
WANNER | JUTTA
WARD | JILL | CHRISTINE
WARNER | ALAN | HENRY
WASSILL | VERONICA | J
WATSON | LOIS | ANN
WATSON | ALISTAIR | CRAIG
WATSON | ALARIC
WEBB | SARA | ANNE
WEBER | ERIC | STEPHEN
WEBSTER | NEIL | JOHN
WEHNIAINEN | CARL | DAVID
WEIBEL | LUCA | W
WEISHAEUPL | GABRIELE | CHRISTINE
WENZEL | GISELA | D
WERTHEYM | DENISE | YVETTE
WESSMAN | SEAN | E
WEXLER | ELLEN | BETH
WHIPPS | CHARLES | MICHAEL
WHITEHEAD | KRISTIN | MARIE
WHITLEY | REBECCA | RACHEL
WHITLEY | MORIA | MARGARET
WICHTOWSKI | STEFAN | CHARLES
WICKBERG | ERIC | JOSEPH
WIDMER | CARMEN | MARIA
WILDER | CORI | BETH
WILI | SIGRID | ELAINE
WILKINSON | PETER | RICHARD
WILLIAMS | JOHN | HENRY
WILLIAMS | HELEN
WILSDON | RUTH | NEATHERY
WILSON | RITA | LOUISE
WILSON-YOUNG | MAXINE | DIANE
WINSOR | SARAH | JANE
WITT | DEBRA | J
WONG | ADRIAN | MAN HAY
WONG | ANDREA | CALPURNIA
WOOD | THOMAS | JAMES
WOODLEY | JAMES
WOODSTOCK | STEPHANIE | ANN
WOOF | ELIZABETH | ANN
WORTHMANN | PATRIK
WRIGHT | SAMUEL | DAVIDSON
WU | AGNES | YI-AN
WU | LOUIS | YIH-SHU
WULFF | RANDALL | PAUL
WURZ | ANAIS | MAGNOLIA
WYDER | URS
YAMAKAWA | DAISUKE
YAMAMOTO | YASUHIRO
YANCEY | JUNKO | OGAWA
YANG | XUEQING
YANG | QING
YANG | NAN
YANG | ROBERT
YAO | MICHAEL | YUEN JEN
YASHIRO | MAYUMI
YAU | ALFRED | L
YAZDI | BAHRAM | MODARRES
YEOH | KAREN | WEE LEEN
YEP | NICHOLAS | GA-SING
YIN | TIFFANY | GRACE
YOCUM | YUMIKO | H
YOLEN | STEVEN | HYATT
YONG | STEVEN | YEW CHOH
YOUK | JUNG | SIM
YOULE | JILLIAN
YOULE | ROBERT | J
YOUNG | GRAHAM | ARTHUR
YOUNG | ERIC | HARRISON
YU | PEI | LEI
YU | JIANYING
ZACH | MAXIMILIAN | PHILIPP
ZACHARIAS | MARC
ZAIMOKUYA | KINUKO
ZEE | JONATHAN | DAR PENG
ZEHAVI | LIMOR | HADAS
ZEIDLER | ROBIN | ALISON
ZEISBERGER | SAMUEL | KARL
ZHANG | RUI
ZHANG | MARGARET | GUYIN
ZHANG | ZHENHUA
ZHANG | TAO
ZHANG | LU
ZHANG | ANLIN
ZHAO | CHUNMEI
ZIMMERMANN | NORBERT | BODO
ZIMMERMANN | MAXIMILIAN | ANTON
ZOCCO | STEPHANIE | RADA
ZOETEWEY | DANIEL | WILLIAM
ZUBER | TINA | CHANTAL
ZUBER | HELENA
ZUERCHER | ANNA | BARBARA
ZUND | MARC | PHILIPPE
ZUPP | WALKER | SPURLING

Dated: July 29, 2024.
Steven B. Levine,
Manager Team 1940, CSDC—Compliance Support, Development & Communications, LB&I:WEIIC:IIC:T4.

[FR Doc. 2024-16993 Filed 7-31-24; 8:45 am]

BILLING CODE 4830-01-P